DEPARTMENT OF TRANSPORTATION

Maritime Administration

[Docket No. MARAD-2019-0206]

Request for Comments of a Previously Approved Information Collection

AGENCY: Maritime Administration, DOT.

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on October 7, 2019.

DATES: Comments must be submitted on or before January 27, 2020.

ADDRESSES: Send comments regarding the burden estimate, including suggestions for reducing the burden, to the Office of Management and Budget, Attention: Desk Officer for the Office of the Secretary of Transportation, 725 17th Street NW, Washington, DC 20503.

FOR FURTHER INFORMATION CONTACT: William McDonald, 202-366-0688, Office of Sealift Support, U.S. Department of Transportation, 1200 New Jersey Avenue SE, Washington, DC 20590, Email: William.g.mcdonald@dot.gov.

SUPPLEMENTARY INFORMATION:

Title: Voluntary Tanker Agreement.

OMB Control Number: 2133-0505.

Type of Request: Renewal of a Previously Approved Information Collection.

Background: This collection of information is used to gather information on tanker operators who agree to contribute tanker capacity as requested by the Maritime Administrator at such times and in such amounts to meet essential needs of the Department of Defense (DOD) for the transportation of petroleum and petroleum products in bulk by sea. The Voluntary Tanker Agreement is a voluntary emergency preparedness agreement in accordance with Section 708, Defense Production Act, 1950, as amended (50 U.S.C. 4558).

Respondents: U.S.-flag and U.S. citizen-owned vessels that are required to respond under current statute and regulation.

Affected Public: Business or other for profit.

Total Estimated Number of Responses: 15.

Frequency of Collection: Annually.

Estimated Time per Respondent: 1 Hr.

Total Estimated Number of Annual Burden Hours: 15.

Public Comments Invited: Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

(Authority: The Paperwork Reduction Act of 1995; 44 U.S.C. Chapter 35, as amended; and 49 CFR 1.93)

Dated: December 18, 2019.
By Order of the Maritime Administrator.
T. Mitchell Hudson, Jr.,
Secretary, Maritime Administration.

[FR Doc. 2019-27681 Filed 12-23-19; 8:45 am]

BILLING CODE 4910-81-P